ENVIRONMENTAL PROTECTION AGENCY

[EPA-HQ-OPPT-2016-0700; FRL-9961-71]

Certain New Chemicals; Receipt and Status Information for March 2017

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from March 1, 2017 to March 31, 2017.

DATES: Comments identified by the specific case number provided in this document, must be received on or before July 10, 2017.

ADDRESSES: Submit your comments, identified by docket identification (ID) number EPA-HQ-OPPT-2016-0700, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division, Office of Pollution Prevention and Toxics (7407M), Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from March 1, 2017 to March 31, 2017, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 44 PMNs received by EPA during this period, Table 1 provides the following information (to the extent that such information is not claimed as CBI): The EPA case number assigned to the PMN; The date the PMN was received by EPA; the projected end date for EPA's review of the PMN; the submitting manufacturer/importer; the potential uses identified by the manufacturer/importer in the PMN; and the chemical identity.

Table 1—PMNs Received From March 1, 2017 to March 31, 2017
Case No. | Received date | Projected notice end date | Manufacturer importer | Use | Chemical
P-16-0119 | 3/1/2017 | 5/30/2017 | CBI | (G) Intermediate | (G) Chlorofluorocarbon.
P-16-0122 | 3/1/2017 | 5/30/2017 | CBI | (G) Intermediate | (G) Chlorofluorocarbon.
P-16-0315 | 3/29/2017 | 6/27/2017 | CBI | (S) Industrial rubber formulation | (G) Alkyldiene, polymer, hydroxy terminated alkoxysilylalkylcarbamate.
P-16-0338 | 3/22/2017 | 6/20/2017 | CBI | (G) Dyestuff | (G) Xanthylium, (sulfoaryl)-bis [(substituted aryl) amino]-, sulfo derivs., inner salts, metal salts.
P-16-0339 | 3/22/2017 | 6/20/2017 | CBI | (G) Dyestuff | (G) Substituted triazinyl metal salt, diazotized, coupled with substituted pyridobenzimidazolesulfonic acids, substituted pyridobenzimidazolesulfonic acids, diazotized substituted alkanesulfonic acid, diazotized substituted aromatic sulfonate, diazotized substituted aromatic sulfonate, metal salts.
P-16-0406 | 3/9/2017 | 6/7/2017 | CBI | (G) Coatings for solid substrates | (G) Functionalized polyimide.
P-16-0407 | 3/9/2017 | 6/7/2017 | CBI | (G) Coatings for solid substrates | (G) Functionalized polyamide.
P-16-0438 | 3/14/2017 | 6/12/2017 | CBI | (S) Intermediate for pesticide inert | (S) 3-butenenitrile, 2-(acetyloxy).
P-16-0439 | 3/22/2017 | 6/20/2017 | CBI | (G) Coloring agent | (G) Carbon black, (organic acidic carbocyclic)-modified, inorganic salt.
P-16-0440 | 3/22/2017 | 6/20/2017 | CBI | (G) Coloring agent | (G) Carbon black, (organic acidic carbocyclic)-modified, metal salt.
P-16-0497 | 3/8/2017 | 6/6/2017 | CBI | (G) Prepolymer | (G) Urethane prepolymer.
P-16-0505 | 3/15/2017 | 6/13/2017 | CBI | (S) Polymeric resin for Ultra Violet (UV) curable acrylates | (S) Poly[oxy(methyl- 1, 2- ethanediyl) ] , alpha- (1- oxo- 2- propen- 1- yl)-omega- [(1- oxo- 2- propen- 1- yl) oxy] -.
P-16-0540 | 3/17/2017 | 6/15/2017 | CBI | (G) Polymeric film former for coatings | (G) Diphenolic compound, polymer with 2-(chloromethyl)oxirane and 4,4'-methylenebis[di-alkyl-substituted phenol].
P-16-0587 | 3/23/2017 | 6/21/2017 | Kemira Chemicals | (S) Depressant for mineral ore flotation | (S) Galactoarabinoxylan.
P-16-0598 | 3/2/2017 | 5/31/2017 | CBI | (G) Binder resin open non-dispersive use | (G) 2-propenoic acid, 2-methyl-, polymer with ethenylbenzene and octadecyl 2-methyl-2-propenoate, reaction products with n-(3-aminophenyl)-2-[2-(2,3-dihydro-2-substituted-1h-benzimidazol-5-yl)hydrazinylidene]-3-oxobutanamide.
P-17-0086 | 3/8/2017 | 6/6/2017 | CBI | (G) Perfume | (G) Cycloalkyl, bis(ethoxyalkyl)-, trans- cycloalkyl, bis(ethoxyalkyl)-, cis-.
P-17-0152 | 3/24/2017 | 6/22/2017 | CBI | (G) Additive in home care products. | (G) Poly-(2-methyl-1-oxo-2-propen-1-yl) ester with ethanaminium, n,n,n-trialkyl, chloride and methoxypoly(oxy-1,2-ethanediyl).
P-17-0206 | 1/13/2017 | 4/13/2017 | CBI | (G) Flame retardant | (G) Imino alkane amine prhosphate, Imino alkane amine phosphate.
P-17-0221 | 3/17/2017 | 6/15/2017 | CBI | (G) Open, non dispersive | (G) Alkylheterocyclic amine blocked isocyanate, alkoxysilane polymer.
P-17-0232 | 3/2/2017 | 5/31/2017 | CBI | (G) Engineering thermoplastic | (G) Copolyamide of an aromatic dicarboxylic acid and a mixture of diamines.
P-17-0240 | 3/1/2017 | 5/30/2017 | CBI | (G) Encapsulanting polymer | (G) Alkenoic acid, polymer with alkanepolyolpolyacrylate, 2,2'-azobis[2-methylbutanenitrile]-initiated.
P-17-0241 | 3/6/2017 | 6/4/2017 | CBI | (S) The first chemical synthesis step in producing a down converting quantum dot (phosphor) solution for use in a light emitting diodes (LED) | (G) Acid, reaction products with cadmium selenide (cdse), trioctylphosphine and trioctylphosphine oxide.
P-17-0242 | 3/6/2017 | 6/4/2017 | CBI | (S) The second chemical synthesis step in producing a down converting quantum dot (phosphor) solution for use in a light emitting diodes (LED) | (G) Acid, reaction products with cadmium selenide sulfide, acid, trioctylphosphine and trioctylphosphine oxide.
P-17-0243 | 3/6/2017 | 6/4/2017 | CBI | (S) The third chemical synthesis step in producing a down converting phosphor solution for use in an optical filter | (G) Acid, reaction products with cadmium metal selenide sulfide, trioctylphosphine and trioctylphosphine oxide.
P-17-0244 | 3/6/2017 | 6/4/2017 | CBI | (S) A down converting phosphor particle for use in an optical filter | (G) Metal oxide reaction products with cadmium metal selenide sulfide, and amine.
P-17-0245 | 3/2/2017 | 5/31/2017 | CBI | (G) Adhesive for open, non-dispersive use | (G) Polyfluoropolyether derivative.
P-17-0247 | 3/7/2017 | 6/5/2017 | CBI | (G) Chemical raw material | (G) Branched alkyl (c=17) carboxylic acid.
P-17-0248 | 3/7/2017 | 6/5/2017 | CBI | (G) Chemical raw material | (G) Branched alkyl (c=18) alcohol.
P-17-0249 | 3/3/2017 | 6/1/2017 | CBI | (G) Open, dispersive use | (G) Amine-functional acrylic polymer.
P-17-0250 | 3/3/2017 | 6/1/2017 | CBI | (S) Injection molding of special applications | (G) Pa6i.6t polymer of aromatic dicarboxylic acid and alkane diamine.
P-17-0251 | 3/9/2017 | 6/7/2017 | CBI | (S) Tracer dye | (G) 1-h-benz[de] isoquinoline-1,3(2h)-dione-2-(-alkyl-)-(-alkyl-amino-),.
P-17-0253 | 3/14/2017 | 6/12/2017 | CBI | (G) The polymer will be produced and sold to the customer in liquid form. Customers will then blend the polymer to achieve their desired formulation properties | (G) Oxirane, 2-methyl-, polymer with oxirane, methyl 2-(substituted carbomonocycle isoquinolin-2(3h)-yl) propyl ether.
P-17-0255 | 3/14/2017 | 6/12/2017 | KAO Specialties Americas LLC | (G) Additive in toner | (G) Carbomonocyclic dicarboxylic acid, polymer with carbomonocyclic dicarboxylic acid, alkanedioic acid, alkenedioic acid, substituted dioxo-heteropolycyclic, substituted dioxo-heteropolycyclic, alkanedioic acid, alkoxylated alkylidene dicarbomonocycle and alkoxylated alkylidene dicarbomonocycle, ester.
P-17-0256 | 3/14/2017 | 6/12/2017 | KAO Specialties Americas LLC | (G) Support resin | (G) Carbopolycyclic dicarboxylic acid, dialkyl ester, polymer with dialkyl carbomonocyclic diester, dialkyl substituted carbomonocyclic diester alkali metal salt and alkanediol.
P-17-0257 | 3/15/2017 | 6/13/2017 | CBI | (G) Precursor to yarns and fibers (G) Specialty additive (G) Specialty coating | (S) Single walled carbon nanotubes.
P-17-0258 | 3/15/2017 | 6/13/2017 | CBI | (G) Gypsum foamer | (G) Alcohols, C9-11, ethoxylated, sulfates, ammonium salts.
P-17-0259 | 3/16/2017 | 6/14/2017 | CBI | (G) Curative for thermosetting resins | (G) Halogenated aromatic amine.
P-17-0261 | 3/21/2017 | 6/19/2017 | IGM Resins Charlotte, Inc | (S) Difunctional type II photoinitiator for use in inks and coatings | (S) Poly(oxy-1,2-ethanediyl),alpha-(2-benzoylbenzoyl)-omega-[(2-benzoylbenzoyl)oxy]-.
P-17-0262 | 3/21/2017 | 6/19/2017 | CBI | (G) Paint raw materials | (G) Acryl-modified epoxy polymer with vegetable oil, fatty acid, acrylates and methacrylates with organic amine.
P-17-0263 | 3/22/2017 | 6/20/2017 | CBI | (G) Most formulators will add less than 5% of *product name* to make their formulated product volume. (i.e. 10 gallon batch would contain 0.5 gallon of our product. Our product will be metered in by hand (via smaller containers) or by pumping into an open and/or closed vessel at desired levels and then mixed mechanically. manufactures/formulators typically use modern manufacturing techniques including ppr, engineering controls, and best management practices | (G) Zirconium carboxylates sodium complexes.
P-17-0264 | 3/22/2017 | 6/20/2017 | Allnex USA Inc | (S) Binder for glass coatings (S) Coating resin intermediate | (G) Alkanoic acid, 2-alkyl-, substituted alkyl ester, polymer with alkyl alkenoate, substituted carbomonocycle, substituted alkyl alkenoate and alkyl substituted alkenoate, substituted alkanenitrile-initiated.
P-17-0265 | 3/22/2017 | 6/20/2017 | Allnex USA Inc | (S) Binder for glass coatings (S) Coating resin intermediate | (G) Alkanoic acid, alkyl-, substituted alkyl ester, polymer with alkyl alkenoate, substituted carbomonocycle, substituted alkyl alkenoate and alkyl substituted alkenoate and alkenoic acid substituted alkanenitrile-initiated, compds. with alkylamino alkanol.
P-17-0266 | 3/22/2017 | 6/20/2017 | Sasol Chemicals (USA) LLC | (S) Additive in metalworking fluids (S) Additive in minimum quantity lubricant for metalworking (S) Chemical intermediate for alcohol derivatives | (S) Alcohols, C12-13-branched and linear, dimerized.
P-17-0270 | 3/30/2017 | 6/28/2017 | CBI | (G) Low refractive index coating | (G) Alkyl perfluorinated acryloyl ester. Bottom of Form.

For the 12 NOCs received by EPA during this period, Table 2 provides the following information (to the extent that such information is not claimed as CBI): The EPA case number assigned to the NOC; the date the NOC was received by EPA; the projected date of commencement provided by the submitter in the NOC; and the chemical identity.

Table 2—NOCs Received From March 1, 2017 to March 31, 2017
Case No. | Received date | Commencement date | Chemical
J-16-0003 | 3/23/2017 | 3/21/2017 | (S) Genetically engineered yeast yd71578.
P-12-0258 | 3/3/2017 | 1/1/2013 | (S) 1-butanol, 2-bromo-.
P-12-0258 | 3/3/2017 | 1/1/2013 | (S) 2-butanol, 1-bromo-.
P-13-0149 | 3/3/2017 | 2/24/2017 | (G) Substituted hydroxyalkyl methacrylate.
P-15-0450 | 3/30/2017 | 3/20/2017 | (S) Aluminum cobalt lithium nickel oxide.
P-15-0714 | 3/2/2017 | 2/8/2017 | (S) Ethanaminium, n,n,n-trimethyl-2-[(1-oxo-2-propen-1-y)oxy]-, chloride (1:1), polymer with ethanedial and 2-propenamide.
P-15-0749 | 3/16/2017 | 3/14/2017 | (G) Naturally-occurring minerals, reaction products with hetero substituted alkyl acrylate polymer, kaolin and sodium silicate.
P-16-0183 | 3/15/2017 | 2/15/2017 | (S) 9-octadecenoic acid, 12-hydroxy-, (9z,12r)-, homopolymer, potassium salt (1:1).
P-16-0387 | 3/3/2017 | 2/23/2017 | (G) Alphatic polycarboxylic acid, polymer with alicylic polyhydric alcohol and polyoxyalkylene.
P-16-0579 | 3/14/2017 | 3/11/2017 | (G) Waste plastics, poly(ethylene terephthalate), depolymd. with polypropylene glycol ether with glycerol (3:1), polymers with alkenoic and alkanoic acids.
P-17-0019 | 3/8/2017 | 2/8/2017 | (G) Hydroxyl alkyl acrylate ester, polymer with acrylates, aromatic vinyl monomer, cycloaliphatic lactone, and alkyl carboxylic acid, peroxide initiated.
P-17-0158 | 3/9/2017 | 2/16/2017 | (G) Perylene bisimide.

Authority: 15 U.S.C. 2601 et seq.

Dated: April 26, 2017.
Megan Carroll,
Deputy Director, Information Management Division, Office of Pollution Prevention and Toxics.

[FR Doc. 2017-11933 Filed 6-7-17; 8:45 am]

BILLING CODE 6560-50-P